DEPARTMENT OF COMMERCE

International Trade Administration

[A-428-821]

Large Newspaper Printing Presses and Components Thereof, Whether Assembled or Unassembled, from Germany: Notice of Final Results of Changed Circumstances Review, Revocation of the Antidumping Duty Order, and Rescission of Administrative Reviews

AGENCY: Import Administration, International Trade Administration, Department of Commerce.

ACTION: Notice of final results of changed circumstances review, revocation of the antidumping duty order, and rescission of antidumping duty administrative reviews.

SUMMARY: On March 5, 2002, the Department of Commerce published a notice of preliminary results of changed circumstances review, intent to revoke the antidumping duty order, and preliminary rescission of antidumping duty administrative reviews (67 FR 9957). We are now revoking this order, retroactive to September 1, 1999, based on the fact that the producers accounting for substantially all of the domestic like product have expressed a lack of interest in the relief provided by this order, dating back to September 1, 1999. We are also rescinding the ongoing antidumping duty administrative reviews covering the periods September 1, 1999, through August 31, 2000, for respondent Koenig & Bauer AG, and September 1, 2000, through August 31, 2001, for respondents Koenig & Bauer AG and MAN Roland Druckmaschinen AG.

DATES: April 22, 2002.

FOR FURTHER INFORMATION CONTACT: David Goldberger or Irene Darzenta Tzafolias AD/CVD Enforcement Group I, Office 2, Import Administration, International Trade Administration, U.S. Department of Commerce, 14th Street and Constitution Avenue, NW, Washington, D.C. 20230; telephone: (202) 482-4136 or (202) 482-0922, respectively.

SUPPLEMENTARY INFORMATION:

The Applicable Statute and Regulations:

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to the regulations at 19 CFR part 351 (2001).

Background

On September 4, 1996, the Department issued the antidumping duty order on large newspaper printing presses (LNPPs) from Germany (61 FR 46623). On September 24, 2001, Koenig & Bauer AG and KBA North America, Inc. Web Press Division (KBA NA, a domestic producer of the subject mercandise; collectively, K&B) requested that the Department revoke the antidumping duty order on LNPPs from Germany through initiation of a changed circumstances review. On November 2, 2001, KBA NA stated that it accounts for substantially all of the production of the domestic like product and no longer has an interest in the continuation of the antidumping duty order. In addition, prior to K&B's request, on September 19, 2001, MAN Roland Druckmaschinen AG and MAN Roland Inc. (collectively, MAN Roland), a foreign producer/exporter of the subject merchandise and its U.S. affiliate, requested that the Department revoke the antidumping duty order on LNPPs from Germany through a changed circumstances review.

Based on the information submitted by KBA NA and KBA NA's assertions that it accounted for substantially all of the production of the domestic like product and had no interest in maintaining the order, the Department initiated a changed circumstances review on November 5, 2001. (See Large Newspaper Printing Presses and Components Thereof, Whether Assembled or Unassembled, From Germany: Notice of Initiation of Changed Circumstances Review and Consideration of Revocation of the Antidumping Duty Order, 66 FR 56798 (November 13, 2001) (Initiation Notice).)

Following the publication of the Initiation Notice, the petitioner in the LNPP proceedings, Goss Graphic Systems, Inc. (Goss) filed a letter on December 21, 2001, stating that it was no longer interested in participating in any of the current antidumping proceedings concerning LNPPs from Germany, including the changed circumstances review, and therefore was withdrawing from them. Subsequent to the filing of Goss's letter, on December 31, 2001, and January 8, 2002, MAN Roland and K&B, respectively, submitted letters urging the Department to conclude, based on the facts of the record, that Goss is not a domestic producer of the subject merchandise and to revoke the order on the basis of changed circumstances with respect to all unliquidated entries of the subject merchandise, including those that are subject to the current administrative reviews. Specifically, K&B requested that the effective date of revocation of the order be September 1, 1999. On January 31, 2002, MAN Roland specified an effective revocation date of September 1, 2000. Consequently, on March 5, 2002, we published a notice of preliminary results of changed circumstances review with the intent to revoke the order, effective September 1, 1999, and rescind the ongoing administrative reviews (67 FR 9957) (Prelimary Results). We invited interested parties to comment on these preliminary results. K&B and MAN Roland submitted letters on March 14, 2002, and March 15, 2002, respectively, supporting the Department's preliminary results.

Scope of Order

The products covered by the order are large newspaper printing presses, including press systems, press additions and press components, whether assembled or unassembled, whether complete or incomplete, that are capable of printing or otherwise manipulating a roll of paper more than two pages across. A page is defined as a newspaper broadsheet page in which the lines of type are printed perpendicular to the running of the direction of the paper or a newspaper tabloid page with lines of type parallel to the running of the direction of the paper.

In addition to press systems, the scope of the order includes the five press system components. They are: (1) A printing unit, which is any component that prints in monocolor, spot color and/or process (full) color; (2) a reel tension paster (RTP), which is any component that feeds a roll of paper more than two newspaper broadsheet pages in width into a subject printing unit; (3) a folder, which is a module or combination of modules capable of cutting, folding, and/or delivering the paper from a roll or rolls of newspaper broadsheet paper more than two pages in width into a newspaper format; (4) conveyance and access apparatus capable of manipulating a roll of paper more than two newspaper broadsheet pages across through the production process and which provides structural support and access; and (5) a computerized control system, which is any computer equipment and/or software designed specifically to control, monitor, adjust, and coordinate the functions and operations of large newspaper printing presses or press components. A press addition is comprised of a union of one or more of the press components defined above and the equipment necessary to integrate such components into an existing press system.

Because of their size, large newspaper printing press systems, press additions, and press components are typically shipped either partially assembled or unassembled, complete or incomplete, and are assembled and/or completed prior to and/or during the installation process in the United States. Any of the five components, or collection of components, the use of which is to fulfill a contract for large newspaper printing press systems, press additions, or press components, regardless of degree of assembly and/or degree of combination with non-subject elements before or after importation, is included in the scope of this order. Also included in the scope are elements of a LNPP system, addition or component, which, taken altogether, constitute at least 50 percent of the cost of manufacture of any of the five major LNPP components of which they are a part.

For purposes of the order, the following definitions apply irrespective of any different definition that may be found in Customs rulings, U.S. Customs law or the Harmonized Tariff Schedule of the United States (HTSUS): the term “unassembled” means fully or partially unassembled or disassembled; and (2) the term “incomplete” means lacking one or more elements with which the LNPP is intended to be equipped in order to fulfill a contract for a LNPP system, addition or component.

This scope does not cover spare or replacement parts. Spare or replacement parts imported pursuant to a LNPP contract, which are not integral to the original start-up and operation of the LNPP, and are separately identified and valued in a LNPP contract, whether or not shipped in combination with covered merchandise, are excluded from the scope of this order. Used presses are also not subject to this order. Used presses are those that have been previously sold in an arm's-length transaction to a purchaser that used them to produce newspapers in the ordinary course of business.

Further, this order covers all current and future printing technologies capable of printing newspapers, including, but not limited to, lithographic (offset or direct), flexographic, and letterpress systems. The products covered by this order are imported into the United States under subheadings 8443.11.10, 8443.11.50, 8443.30.00, 8443.59.50, 8443.60.00, and 8443.90.50 of the HTSUS. Large newspaper printing presses may also enter under HTSUS subheadings 8443.21.00 and 8443.40.00. Large newspaper printing press computerized control systems may enter under HTSUS subheadings 8471.49.10, 8471.49.21, 8471.49.26, 8471.50.40, 8471.50.80, and 8537.10.90. Although the HTSUS subheadings are provided for convenience and customs purposes, our written description of the scope of the order is dispositive.

Final Results of Changed Circumstances Review and Revocation of the Antidumping Duty Order

Pursuant to section 782(h)(2) of the Act, the Department may revoke an antidumping or countervailing duty order based on a review under section 751(b) of the Act (i.e., a changed circumstances review). Section 751(b)(1) of the Act requires a changed circumstances review to be conducted upon receipt of a request which shows changed circumstances sufficient to warrant a review. 19 CFR 351.222(g) provides that the Department will conduct a changed circumstances review under 19 CFR 351.216, and may revoke an order (in whole or in part), if it determines that producers accounting for substantially all of the production of the domestic like product to which the order (or the part of the order to be revoked) pertains have expressed a lack of interest in the relief provided by the order, in whole or in part, or if other changed circumstances exist sufficient to warrant revocation. Furthermore, it is the Department's practice to revoke an antidumping duty order so that the effective date of revocation covers entries that have not been subject to a completed administrative review. There has not been a completed administrative review for K&B since September 1, 1999, because the Department deferred for one year the initiation of the administrative review of K&B for the period September 1, 1999, through August 31, 2000¹. See Initiation Notice.

¹ There has been a completed administrative review of the order for MAN Roland since the specified effective date of revocation (i.e., covering the period September 1, 1999, through August 31, 2000) (see Large Newspaper Printing Presses and Components Thereof, Whether Assembled or Unassembled, from Germany: Final Results of Antidumping Duty Administrative Review, 67 FR 2192 (January 16, 2002)); however, the margin resulting from the completed review for MAN Roland for the period September 1, 1999, through August 31, 2000, was zero, and thus, notwithstanding the Department′s decision to revoke the order, the Department would otherwise instruct the Customs Service to liquidate the entries relevant to this review period in the same manner as it would with respect to revocation of the order effective September 1, 1999 (i.e., it would instruct the Customs Service to liquidate the entries at issue without regard to antidumping duties). The effective date would have no impact on MAN Roland.

As explained in the Preliminary Results, we interpret Goss' withdrawal from all of the ongoing LNPP proceedings to mean that Goss no longer has interest in the maintenance of this order. Both Goss, the original petitioner, and KBA NA, a U.S. producer of LNPPs which claims it accounts for substantially all of the production of the domestic like product, are no longer interested in the maintenance of this order, and no other interested party has filed any objection to the revocation of this order. Accordingly, the Department determines that the producers accounting for substantially all of the domestic like product have expressed a lack of interest in the relief provided by this order, and thus, sufficient changed circumstances exist to warrant revocation of the order. The Department also determines that the effective date of revocation for this order is September 1, 1999, the first day of the review period for the 1999-2000 administrative review for K&B. Therefore, the Department is revoking, effective September 1, 1999, the order on LNPPs from Germany in whole, pursuant to sections 751(b) and (d) and 782(h) of the Act, as well as 19 CFR 351.216 and 351.222(g).

Rescission of Antidumping Administrative Reviews

Because we are revoking the antidumping duty order for the reasons stated above, effective September 1, 1999, we are rescinding the ongoing administrative reviews of LNPPs from Germany, pursuant to section 751(d)(3) of the Act.

Instructions to the Customs Service

In accordance with 19 CFR 351.222, the Department will instruct the Customs Service to terminate the suspension of liquidation and to liquidate, without regard to antidumping duties, all unliquidated entries of LNPPs from Germany, entered, or withdrawn from warehouse, for consumption on or after September 1, 1999, the date first day of the review period for the 1999-2000 administrative review for K&B. The Department will further instruct the Customs Service to refund with interest any estimated duties collected with respect to unliquidated entries of LNPPs from Germany entered, or withdrawn from warehouse, for consumption on or after September 1, 1999, in accordance with section 778 of the Act. These instructions will not be issued until either the conclusion of the ongoing litigation with respect to the final determination of the Department's less-than-fair-value investigation of LNPPs from Germany, pursuant to which entries have been enjoined from liquidation, or the injunction in that case is lifted or amended to allow liquidation of entries. (See Koenig & Bauer Albert v. United States, Fed. Cir. Court No. 00-1387 (CIT 96-10-02298).)

This notice also serves as a reminder to parties subject to administrative protective orders (APOs) of their responsibility concerning the disposition of proprietary information disclosed under APO in accordance with 19 CFR 351.306. Timely written notification of the return/destruction of APO materials or conversion to judicial protective order is hereby requested. Failure to comply with the regulations and terms of an APO is a sanctionable violation.

This notice of final results of changed circumstances review and revocation of the antidumping duty order is in accordance with sections 751(b) and (d), and 777(i)(1) of the Act and 19 CFR 351.216(d) and 351.222(g). The 1999-2000 and 2000-2001 antidumping duty administrative reviews of LNPPs from Germany are rescinded in accordance with section 751(d)(3) of the Act.

Dated: April 16, 2002
Faryar Shirzad,
Assistant Secretary for Import Administration.

[FR Doc. 02-9806 Filed 4-19-02; 8:45 am]

BILLING CODE 3510-DS-S